DEPARTMENT OF HEALTH AND HUMAN SERVICES

Administration for Children and Families

Submission for OMB Review; Comment Request

Proposed Project

Title: Communities Empowering Youth Evaluation Study.

OMB No. New Collection.

Description: The information collection activity proposed under this notice will obtain information about lead and partner organizations funded under the Communities Empowering Youth (CEY) program. The information collected will complement a survey (OMB No. 0970-0335) that is examining the organizational and partnership capacity-building experienced by organizations funded under the CEY program. The proposed information collection will allow in-depth examination of a select number of lead organizations and their partners. Information collection will be through on-site observations of organizations and partnerships and structured discussions with key staff, using uniform protocols. Pilot testing will be conducted at two sites to ensure that the protocols and observations are valid and reliable. On-site information collection will occur three times: Near the beginning, at the mid-point, and at the end of the three-year CEY grant period. Periodic telephone follow-ups, occurring approximately every six months, will be conducted between on-site data collection in order to clarify or update information collected earlier and to prepare for future site visits.

Respondents: Executive directors and key staff of faith based and community organizations that received three-year CEY grants beginning in 2007.

Annual Burden Estimates
Instrument | Number of respondents | Number of responses per respondent | Average burden hours per response | Total burden hours
Lead Organization Executive Director | 10 | 1 | 3.5 | 35
Lead Organization Key Staff | 20 | 1 | 2.5 | 50
Partner Organization Executive Director | 60 | 1 | 3.5 | 210
Partner Organization Key Staff | 60 | 1 | 2.5 | 150

Estimated Total Annual Burden Hours: 445.

Additional Information: Copies of the proposed collection may be obtained by writing to the Administration for Children and Families, Office of Planning, Research and Evaluation, 370 L'Enfant Promenade, SW., Washington, DC 20447, Attn: ACF Reports Clearance Officer. E-mail address: OPREInfoCollection@acf.hhs.gov. All requests should be identified by the title of the information collection.

OMB Comment: OMB is required to make a decision concerning the collection of information between 30 and 60 days after publication of this document in the Federal Register. Therefore, a comment is best assured of having its full effect if OMB receives it within 30 days of publication.

Written comments and recommendations for the proposed information collection should be sent directly to the following: Office of Management and Budget, Paperwork Reduction Project, FAX: 202-395-6974, Attn: Desk Officer for ACF.

Dated: July 2, 2008.
Brendan C. Kelly,
OPRE Reports Clearance Officer.

[FR Doc. E8-15502 Filed 7-10-08; 8:45 am]

BILLING CODE 4184-01-M